DEPARTMENT OF JUSTICE

Antitrust Division

Notice Pursuant to the National Cooperative Research and Production Act of 1993—Space Enterprise Consortium

Notice is hereby given that, on January 31, 2019, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, Aerodyne Industries, LLC, Cape Canaveral, FL; Altius Space Machines, Inc., Broomfield, CO; Aurora Engineering, LLC, Potomac, MD; Barnett Engineering & Signaling Laboratories, LLC, Colorado Springs, CO; BEI Precision Systems & Space Company, Inc., Maumelle, AZ; Boarhog, LLC, San Diego, CA; Brandywine Communications, Tustin, CA; Brandywine Photonics LLC, Exton, PA; Carillon Technologies Management Corporation, Alexandria, VA; Control Vision, Inc., Green Valley, AZ; deciBel Research, Inc., Huntsville, AL; Entegra Systems, Inc., Hanover, MD; Escape Communications, Inc., Torrance, CA; Integrity Communications Solutions, Colorado Springs, CO; L3 Technologies, Inc., SSG Division, Wilmington, MA; La Jolla Logic, San Diego, CA; Libration Systems Management, Inc., Albuquerque, NM; LinQuest Corporation, Los Angeles, CA; LoadPath, Albuquerque, NM; Lunar Resources, Inc., Houston, TX; Opterus R&D, Inc., Fort Collins, CO; Optimum Technologies, LLC, Leesburg, VA; Orbit Logic Incorporated, Greenbelt, MD; P3 Technologies, Inc., Jupiter, FL; Platron Manufacturing, Pflugerville, TX; Projects Unlimited, Dayton, OH; Quantum Research International, Huntsville, AL; Space Exploration Technologies Corp., Hawthorne, CA; Space Systems Integration, LLC, Great Falls, VA; Summation Research, Melbourne, FL; Tethers Unlimited, Inc., Bothell, WA; TMC Design Corporation, Las Cruces, NM; USfalcon, Inc., Cary, NC; Valley Tech Systems, Inc., Folsom, CA; Wyle Laboratories, Inc., Lexington Park, MD; and Zodiac Data Systems, Alpharetta, GA, have been added as parties to this venture.

Also, a.i. Solutions, Inc., Los Angeles, CA; Brilligent Solutions, Inc., Fairborn, OH; Electric Drivetrain Technologies, Castle Valley, UT; QuesTek Innovations, Inc., Evanston, IL; Saraniasat, Inc., Los Angeles, CA; Spectrum Laser and Technologies Inc. dba Spectrum AMT, Colorado Springs, CO; and Syscom, Colorado Springs, CO, have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on November 8, 2018. A notice was published in the Federal Register pursuant to Section 6(b) of the Act on December 6, 2018 (83 FR 62901).

Suzanne Morris,
Chief, Premerger and Division Statistics Unit, Antitrust Division.

[FR Doc. 2019-03523 Filed 2-27-19; 8:45 am]

BILLING CODE 4410-11-P